DEPARTMENT OF TRANSPORTATION

Maritime Administration

[Docket No. MARAD-2025-0093]

Request for Comments on the Renewal of a Previously Approved Collection: Maritime Administration Annual Service Obligation Compliance Report

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0509 (Maritime Administration Annual Service Obligation Compliance Report) is used to determine if a graduate of the U.S. Merchant Marine Academy or a State maritime academy Student Incentive Payment (SIP) program graduate is complying with the terms of the service obligation. We are required to publish this notice in the Federal Register to obtain comments from the public and affected agencies.

DATES: Comments must be submitted on or before August 5, 2025.

ADDRESSES: You may submit comments identified by Docket No. MARAD-2025-0093 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Danielle Bennett, 202-366-7618, Office of Maritime Labor and Training, Room W23-458, Maritime Administration, U.S. Department of Transportation, 1200 New Jersey Avenue SE, Washington, DC 20590, Email: Danielle.Bennett@dot.gov.

SUPPLEMENTARY INFORMATION:

Title: Maritime Administration Annual Service Obligation Compliance Report.

OMB Control Number: 2133-0509.

Type of Request: Extension without change of a previously approved collection.

Abstract: 46 U.S.C. 51306 and 46 U.S.C. 51509 imposes a service obligation on every graduate of the U.S. Merchant Marine Academy and every State maritime academy Student Incentive Payment (SIP) program graduate. This mandatory service obligation is for the Federal financial assistance the graduate received as a student. The obligation consists of: (1) maintaining U.S. Coast Guard merchant mariner credentials and officer endorsements (unlimited license) as an officer in the merchant marine of the United States for at least six years following graduation from an academy; (2) serving as a commissioned officer in the U.S. Naval Reserve, the U.S. Coast Guard Reserve or any other reserve unit of an armed force of the United States for at least eight years following graduation from an academy; and (3) serving as a merchant marine officer on U.S.-flag vessels, as an employee in a U.S. maritime-related industry ashore or as a commissioned officer on active duty in an armed force of the United States, National Oceanic and Atmospheric Administration (NOAA) Corps, United States Public Health Service (USPHS) Corps or other MARAD approved service; and (4) report annually on their compliance with the service obligation after graduation.

Respondents: Graduates of the U.S. Merchant Marine Academy and State maritime academy Student Incentive Payment (SIP) program graduates.

Affected Public: Individuals or household.

Estimated Number of Respondents: 2,100.

Estimated Number of Responses: 2,100.

Estimated Hours per Response: 20 Minutes.

Annual Estimated Total Annual Burden Hours: 700.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-10350 Filed 6-5-25; 8:45 am]

BILLING CODE 4910-81-P